DEPARTMENT OF TRANSPORTATION

Federal Aviation Administration

14 CFR Part 39

[Docket No. FAA-2012-0755; Directorate Identifier 99-CE-65-AD]

RIN 2120-AA64

Airworthiness Directives; Piaggio Aero Industries S.p.A.

AGENCY: Federal Aviation Administration (FAA), DOT.

ACTION: Notice of proposed rulemaking (NPRM); rescission.

SUMMARY: We propose to rescind Airworthiness Directive (AD) 200-07-11 for all Piaggio Aero Industries S.p.A Model P-180 airplanes. That AD was prompted by mandatory continuing airworthiness information (MCAI) issued by the airworthiness authority for Italy. We issued that AD to prevent the brake hydraulic fluid from leaking because of the brake assembly rods contacting the brake valve tubing, which could result in the inability to adequately stop the airplane during ground operations. Since we issued that AD, we have determined this is no longer an unsafe condition and that regularly scheduled annual inspections address this subject.

DATES: We must receive comments on this proposed AD by September 4, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

Examining the AD Docket

You may examine the AD docket on the Internet at http://www.regulations.gov; or in person at the Docket Operations Office between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Mike Kiesov, Aerospace Safety Engineer, FAA, Small Airplane Directorate, 901 Locust, Kansas City, Missouri 64106; telephone: (816) 329-4144; fax: (816) 329-4090; email: mike.kiesov@faa.gov.

SUPPLEMENTARY INFORMATION:

Comments Invited

We invite you to send any written relevant data, views, or arguments about this proposal. Send your comments to an address listed under the ADDRESSES section. Include “Docket No. FAA-2012-0755; Directorate Identifier 99-CE-65-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 29, 2000, we issued AD 2000-07-11, Amendment 39-11665 (65 FR 19305, April 11, 2000). That AD required actions intended to address an unsafe condition on the products listed above.

Since we issued AD 2000-07-11 (65 FR 19305, April 11, 2000), we determined the unsafe condition no longer exists. Review of the Piaggio Model P-180 service history and maintenance requirements shows that regularly scheduled annual inspections address this issue. Therefore, the need to continue to address this subject as an unsafe condition through an AD is not necessary.

The European Aviation Safety Agency (EASA), which is the Technical Agent for the Member States of the European Community, has issued 2012-0095-CN, dated May 31, 2012 (referred to after this as “the MCAI”). The MCAI states:

After a 1999 training session during which conflicting inputs were given to the brake pads between pilot and copilot, a brake system rod was found deflected. The rod, in this bent condition, could possibly wear and damage the tubings connected to the brake valves, with consequent fluid leakage.

Prompted by these findings, PAI issued Service Bulletin (SB) 80-0107, providing instructions for repetitive inspections of the affected rods and tubings. As this was considered to be a potentially unsafe condition, Registro Aeronautico Italiano (RAI), the predecessor of ENAC (Ente Nazionale per l'Aviazione Civile), issued Prescrizione di Aeronavigabilità (PA) No. 1999-219, which required the repetitive inspections as detailed in PAI SB 80-0107 and, depending on findings, replacement of rod or tubing.

Since that AD was issued, the repetitive inspections of SB 80-0107 have been included as regular tasks into the maintenance schedule of both Avanti and Avanti II aeroplanes. In addition, no other cases of brake system bent rods have been reported, nor have any rods been replaced for damage in the P.180 fleet since that occurrence. Based on the available information, this is no longer considered to be an unsafe condition. Prompted by this determination, PAI issued Revision ZZ of SB 80-0107, which cancels the original SB 80-0107.

For the reasons described above, this Notice is issued to cancel ENAC PA no. 1999-219 dated 03 May 1999.

You may obtain further information by examining the MCAI in the AD docket.

FAA's Determination

We propose this AD because we evaluated all available information and determined the existing AD is no longer necessary.

Proposed AD Requirements

This proposed AD would rescind AD 2000-07-11 (65 FR 19305, April 11, 2000).

Authority for this Rulemaking

Title 49 of the United States Code specifies the FAA's authority to issue rules on aviation safety. Subtitle I, section 106, describes the authority of the FAA Administrator. “Subtitle VII: Aviation Programs”, describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11665 (65 FR 19305, April 11, 2000), and adding the following new AD:

Piaggio Aero Industries S.p.A.: Docket No. FAA-2012-0755; Directorate Identifier 99-CE-65-AD.

(a) Comments Due Date

We must receive comments by September 4, 2012.

(b) Applicability

This AD applies to Piaggio Aero Industries S.p.A. Model P-180 airplanes, all serial numbers, certificated in any category.

(c) Affected ADs

This AD rescinds AD 2000-07-11 (65 FR 19305, April 11, 2000).

(d) Subject

Joint Aircraft System Component (JASC)/Air Transport Association (ATA) of America Code 32; Landing Gear.

Issued in Kansas City, Missouri, on July 13, 2012.
Earl Lawrence,
Manager, Small Airplane Directorate, Aircraft Certification Service.

[FR Doc. 2012-17582 Filed 7-18-12; 8:45 am]

BILLING CODE 4910-13-P